INTERNATIONAL TRADE COMMISSION

[Investigation No. 337-TA-908]

Certain Soft-Edged Trampolines and Components Thereof Notice of Final Determination of No Violation; Termination of the Investigation

AGENCY: U.S. International Trade Commission.

ACTION: Notice.

SUMMARY: Notice is hereby given that the U.S. International Trade Commission has determined that no violation of section 337 has been proven in the above-captioned investigation. The Commission's determination is final, and this investigation is terminated.

FOR FURTHER INFORMATION CONTACT: Lucy Grace D. Noyola, Office of the General Counsel, U.S. International Trade Commission, 500 E Street SW., Washington, DC 20436, telephone 202-205-3438. Copies of non-confidential documents filed in connection with this investigation are or will be available for inspection during official business hours (8:45 a.m. to 5:15 p.m.) in the Office of the Secretary, U.S. International Trade Commission, 500 E Street SW., Washington, DC 20436, telephone 202-205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on 202-205-1810.

SUPPLEMENTARY INFORMATION: The Commission instituted this investigation on January 30, 2014, based on a complaint filed by Springfree Trampoline, Inc. of Markham, Canada, Springfree Trampoline USA Inc. of Markham, Canada, and Spring Free Limited Partnership of Markham, Canada (collectively, “Springfree”). 79 FR 4956 (Jan. 30, 2014). The complaint alleges violations of section 337 of the Tariff Act of 1930, as amended, 19 U.S.C. 1337, in the importation, sale for importation, or sale within the United States after importation of certain soft-edged trampolines and components thereof by reason of infringement of claims 1 and 13 of U.S. Patent No. 6,319,174 (“the '174 patent”). Id. The notice of investigation names Vuly Trampolines Pty. Ltd. of Brisbane, Australia (“Vuly”) as the sole respondent. Id. at 4957. The Office of Unfair Import Investigations did not participate in the investigation. Id.

On December 5, 2014, the administrative law judge (“ALJ”) issued a final ID finding no violation of section 337. On December 18, 2014, the ALJ issued a recommended determination (“RD”) on remedy and bonding. On December 22, 2014, Springfree and Vuly filed petitions for review challenging various findings in the final ID. On January 2, 2015, the parties filed responses. The Commission did not receive any post-RD public interest comments from the public or the parties.

On February 5, 2015, the Commission determined to review the final ID in part and requested additional briefing from the parties on certain issues. The Commission also solicited briefing from the parties and the public on the issues of remedy, bonding, and the public interest. On February 19, 2015, the parties filed briefs addressing the Commission's questions and the issues of remedy, bonding, and the public interest. On March 2, 2015, the parties filed reply briefs.

Having examined the record of this investigation, including the ALJ's final ID and submissions from the parties, the Commission has determined to affirm the ALJ's determination of no violation. As explained more fully in the forthcoming Commission opinion, the Commission has determined to construe “flexible mat” in the first instance, modify the ALJ's construction of “first retaining means,” and affirm, but on modified grounds, the ALJ's construction of “flexible elongated rod.” The Commission has determined to affirm, but on modified grounds, the ALJ's findings that Vuly's products infringe claim 13, that Springfree's products practice claim 13, that claim 1 is not invalid as anticipated by the prior art, that claim 13 is invalid as anticipated by the prior art, and that claims 1 and 13 are not invalid due to lack of enablement. The Commission has determined to reverse the ALJ's findings that Vuly's products infringe claim 1, that Springfree's products do not practice claim 1, and that Springfree did not satisfy the technical prong of the domestic industry requirement as to claims 1 and 13. The Commission has determined to affirm the ALJ's finding that Springfree did not satisfy the economic prong of the domestic industry requirement. The Commission has determined not to reach the issue of whether claim 13 is obvious.

The authority for the Commission's determination is contained in section 337 of the Tariff Act of 1930, as amended (19 U.S.C. 1337), and in Part 210 of the Commission's Rules of Practice and Procedure (19 CFR part 210).

By order of the Commission.
Issued: April 6, 2015.
Lisa R. Barton,
Secretary to the Commission.

[FR Doc. 2015-08223 Filed 4-9-15; 8:45 am]

BILLING CODE 7020-02-P